DEPARTMENT OF LABOR

Employment and Training Administration

[TA-W-81,064]

VTECH Communications, Inc., Human Factors Department, Beaverton, OR; Amended Certification Regarding Eligibility To Apply for Worker Adjustment Assistance

In accordance with Section 223 of the Trade Act of 1974, as amended (“Act”), 19 U.S.C. 2273, the Department of Labor issued a Certification of Eligibility To Apply for Worker Adjustment Assistance on December 14, 2011, applicable to workers of VTech Communications, Inc., including on-site leased workers from Express and Kelly IT, Beaverton, Oregon. The workers are engaged in activities related to the production of phones. Specifically, the workers were designing the user interface and quality assurance for the phones. The notice was published in the Federal Register on December 29, 2011 (76 FR 81989).

At the request of the State agency, the Department reviewed the certification for workers of the subject firm. New information from the company shows that the correct name of the subject firm should read VTech Communications, Inc., Human Factors Department, Beaverton, Oregon. New information also shows that the Human Factors Department does not include on-site leased workers. Therefore, the on-site leased workers from Express and Kelly IT are removed form this certification.

Accordingly, the Department is amending this certification to correct the name of the subject firm to read VTech Communications, Inc., Human Factors Department, Beaverton, Oregon. The intent of the Department's certification is to include all workers of the subject firm who were adversely affected by the shift in production to a foreign country.

The amended notice applicable to TA-W-81,064 is hereby issued as follows:

All workers from VTech Communications, Inc., Human Factors Department, Beaverton, Oregon, who became totally or partially separated from employment on or after February 13, 2010, through December 14, 2013, and all workers in the group threatened with total or partial separation from employment on date of certification through two years from the date of certification, are eligible to apply for adjustment assistance under Chapter 2 of Title II of the Trade Act of 1074, as amended.

Signed at Washington, DC, this 11th day of January 2012.
Michael W. Jaffe,
Certifying Officer, Office of Trade Adjustment Assistance.

[FR Doc. 2012-1329 Filed 1-23-12; 8:45 am]

BILLING CODE 4510-FN-P